COMMISSION ON CIVIL RIGHTS

Sunshine Act Notice

AGENCY: United States Commission on Civil Rights.

ACTION: Notice of meeting and briefing.

Date and Time: Friday, January 11; 9:30 a.m. Meeting.

Place: U.S. Commission on Civil Rights, 624 Ninth Street, NW., Rm. 540, Washington, DC 20425.

Meeting Agenda

I. Approval of Agenda.

II. Approval of Minutes of December 3 Meeting.

III. Announcements.

IV. Staff Director's Report.

V. Management and Operations:

• Ethics Regulations.

VI. Program Planning:

• FY 2009 Multi-state Report.

VII. State Advisory Committee Issues:

• District of Columbia SAC.

• Kansas SAC.

• Missouri SAC.

• South Carolina SAC.

VIII. Future Agenda Items.

IX. Adjourn.

Contact Person for Further Information: Robert Lerner, Press and Communications, (202) 376-8582.

Dated: December 31, 2007.
David Blackwood,
General Counsel.

[FR Doc. 07-6310 Filed 12-31-07; 2:25 pm]

BILLING CODE 6335-01-P